DEPARTMENT OF ENERGY

Federal Energy Regulatory Commission

[Docket No. RP97-375-010]

Wyoming Interstate Company, Ltd.; Notice of Filing of Refund Report

April 10, 2000.

Take notice that on April 4, 2000, Wyoming Interstate Company, Ltd. (WIC) tendered for filing a refund report in Docket No. RP97-365-009.

WIC states that the filing and refunds were made to comply with the Commission's Order of December 21, 1999. WIC also states the amounts were paid by WIC on February 4, 2000.

WIC further states that the refund report summarizes transportation refund amounts for the period December 1, 1997 through November 30, 1999 pursuant to Article VIII of WIC's Stipulation and Agreement as approved in the Commission's December 21, 1999 Order.

WIC states that copies of WIC's filing are being mailed to all holders of the tariff and to public bodies.

Any person desiring to protest said filing should file a protest with the Federal Energy Regulatory Commission, 888 First Street, NE, Washington, DC 20426, in accordance with Section 385.211 of the Commission's Rules and Regulations. All such protests must be filed on or before April 17, 2000. Protests will be considered by the Commission in determining the appropriate action to be taken, but will not serve to make protestants parties to the proceedings. Copies of this filing are on file with the Commission and are available for public inspection in the Public Reference Room. This filing may be viewed on the web at http://www.ferc.fed.us/online/rims.htm (call (202-208-2222 for assistance).

David P. Boergers,
Secretary.

[FR Doc. 00-9309 Filed 4-13-00; 8:45 am]

BILLING CODE 6717-01-M